DEPARTMENT OF THE INTERIOR

National Park Service

[NPS-WASO-NAGPRA-19194; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum (Burke Museum) has completed an inventory of human remains and an associated funerary object, in consultation with the appropriate Indian tribes or Native Hawaiian organizations, and has determined that there is a cultural affiliation between the human remains and associated funerary object and present-day Indian tribes or Native Hawaiian organizations. Lineal descendants or representatives of any Indian tribe or Native Hawaiian organization not identified in this notice that wish to request transfer of control of these human remains and associated funerary object should submit a written request to the Burke Museum. If no additional requestors come forward, transfer of control of the human remains and associated funerary object to the lineal descendants, Indian tribes, or Native Hawaiian organizations stated in this notice may proceed.

DATES: Lineal descendants or representatives of any Indian tribe or Native Hawaiian organization not identified in this notice that wish to request transfer of control of these human remains and associated funerary object should submit a written request with information in support of the request to the Burke Museum at the address in this notice by November 2, 2015.

ADDRESSES: Peter Lape, Burke Museum, University of Washington, Box 353010, Seattle, WA 98195, telephone (206) 685-3849, email plape@uw.edu.

SUPPLEMENTARY INFORMATION: Notice is here given in accordance with the Native American Graves Protection and Repatriation Act (NAGPRA), 25 U.S.C. 3003, of the completion of an inventory of human remains and an associated funerary object under the control of the Burke Museum, University of Washington, Seattle, WA. The human remains and associated funerary object were removed from near Lilliwaup, Mason County, WA.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the Burke Museum professional staff in consultation with representatives of the Confederated Tribes of the Chehalis Reservation, Skokomish Indian Tribe (previously listed as the Skokomish Indian Tribe of the Skokomish Reservation, Washington), and the Squaxin Island Tribe of the Squaxin Island Reservation.

History and Description of the Remains

In 1961, human remains representing, at minimum, one individual were removed from near Lilliwaup in Mason County, WA. The human remains were removed by Jane Durken near the old Eldon Hotel and donated to the Burke Museum in 1963 (Burke Accn. #1963-36). No known individuals were identified. The one associated funerary object is an unmodified shell.

The human remains are consistent with Native American morphology and therefore have been determined to be Native American. Lilliwap and the surrounding area is within the traditional aboriginal territory of the Twana people (Elmendorf 1960, Mooney 1896, Smith 1940, Suttle 1990). Three subgroups of the Twana are identifiable: The Skokomish, the Duhelelips, and the Kolsids (Brown 1986). The Indian Claims Commission ruled that all of Hood Canal, WA, was the traditional aboriginal territory of the Twana (Skokomish) people. The Twana are represented by the modern day Skokomish Indian Tribe Skokomish Indian Tribe (previously listed as the Skokomish Indian Tribe of the Skokomish Reservation, Washington). The Skokomish were signatories to the 1855 Treaty of Point-No-Point.

Determinations Made by the Burke Museum

Officials of the Burke Museum have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• According to final judgments of the Indian Claims Commission or the Court of Federal Claims, the land from which the Native American human remains and associated funerary objects were removed is the aboriginal land of the Skokomish Indian Tribe (previously listed as the Skokomish Indian Tribe of the Skokomish Reservation, Washington).

• Pursuant to 25 U.S.C. 3001(2), there is a relationship of shared group identity that can be reasonably traced between the Native American human remains and associated funerary object and the Skokomish Indian Tribe (previously listed as the Skokomish Indian Tribe of the Skokomish Reservation, Washington).

Additional Requestors and Disposition

Lineal descendants or representatives of any Indian tribe or Native Hawaiian organization not identified in this notice that wish to request transfer of control of these human remains and associated funerary object should submit a written request with information in support of the request to Peter Lape, Burke Museum, University of Washington, Box 353010, Seattle, WA 98195, telephone (206) 685-3849 x2, email plape@uw.edu, by November 2, 2015. After that date, if no additional requestors have come forward, transfer of control of the human remains and associated funerary object to the Skokomish Indian Tribe (previously listed as the Skokomish Indian Tribe of the Skokomish Reservation, Washington) may proceed.

The Burke Museum is responsible for notifying the Confederated Tribes of the Chehalis Reservation, Skokomish Indian Tribe (previously listed as the Skokomish Indian Tribe of the Skokomish Reservation, Washington), and the Squaxin Island Tribe of the Squaxin Island Reservation that this notice has been published.

Dated: August 26, 2015.
Melanie O'Brien,
Manager, National NAGPRA Program.

[FR Doc. 2015-25040 Filed 9-30-15; 8:45 am]

BILLING CODE 4312-50-P